DEPARTMENT OF THE INTERIOR

Bureau of Land Management

[AZ-930-1060-PC-241A]

Notice of Use of Aircraft in Maricopa, Yuma, La Paz, and Mohave Counties

AGENCY: Bureau of Land Management, Interior.

ACTION: Public hearing to receive comments on the use of aircraft to gather and census wild burros and horses in Arizona.

SUMMARY: Notice is hereby given that the Bureau of Land Management will use aircraft to gather and census wild burros and horses in Arizona for the period of May-December 2001. The public is hereby invited to attend a public hearing on April 12, 2001, at the BLM Lake Havasu Field Office (conference room), 2610 Sweetwater Avenue, Lake Havasu City, Arizona 86406 from 1:00 to 3:00 p.m. to receive comments on the use of aircraft in wild horse and burro management.

FOR FURTHER INFORMATION CONTACT: Kelly Grissom, State Wild Horse and Burro Specialist, Bureau of Land Management, 222 North Central Avenue, Phoenix, Arizona 85004-2203, telephone (602) 417-9441, E-mail: kelly_grissom@blm.gov.

Denise P. Meredith,
Arizona State Director.

[FR Doc. 01-7036 Filed 3-20-01; 8:45 am]

BILLING CODE 4310-32-M